DEPARTMENT OF ENERGY

Environmental Management Site-Specific Advisory Board

AGENCY: Office of Environmental Management, Department of Energy.

ACTION: Notice of Renewal.

SUMMARY: Pursuant to the Federal Advisory Committee Act, and following consultation with the Committee Management Secretariat, General Services Administration, notice is hereby given that the Environmental Management Site-Specific Advisory Board (EM SSAB or Board) will be renewed for a two-year period beginning on April 11, 2018.

The Board provides the Assistant Secretary for Environmental Management (EM) with advice and recommendations concerning issues affecting the EM program at various sites. These site-specific issues include clean-up standards and environmental restoration; waste management and disposition; stabilization and disposition of non-stockpile nuclear materials; excess facilities; future land use and long-term stewardship; risk assessment and management; and clean-up science and technology activities.

Additionally, the renewal of the Board has been determined to be essential to conduct DOE's business and to be in the public interest in connection with the performance of duties imposed on the DOE by law and agreement. The Board will operate in accordance with the provisions of the Federal Advisory Committee Act, and rules and regulations issued in implementation of that Act.

FOR FURTHER INFORMATION CONTACT: Mr. David Borak, Designated Federal Officer, at (202) 586-9928 or david.borak@em.doe.gov.

Issued in Washington, DC, on April 11, 2018.
Wayne D. Smith,
Committee Management Officer.

[FR Doc. 2018-07995 Filed 4-16-18; 8:45 am]

BILLING CODE 6450-01-P